DEPARTMENT OF AGRICULTURE

Animal and Plant Health Inspection Service

[Docket No. APHIS-2015-0042]

Notice of a Determination Regarding the Fever Tick Status of the State of Chihuahua, Excluding the Municipalities of Guadalupe y Calvo and Morelos

AGENCY: Animal and Plant Health Inspection Service, USDA.

ACTION: Notice.

SUMMARY: We are advising the public that we have determined that the State of Chihuahua, excluding the municipalities of Guadalupe y Calvo and Morelos, is free from fever ticks. Based on an evaluation of the fever tick status of this region, which we made available to the public for review and comment through a previous notice, the Administrator has determined that this region is free from fever ticks and that ruminants imported from the region present a low risk of exposing ruminants in the United States to fever ticks.

DATES: This change in fever tick status will be recognized on April 27, 2018.

FOR FURTHER INFORMATION CONTACT: Dr. Betzaida Lopez, Senior Staff Veterinarian, National Import Export Services, VS, APHIS, 4700 River Road Unit 39, Riverdale, MD 20737; (301) 851-3300.

SUPPLEMENTARY INFORMATION: The regulations in 9 CFR part 93 prohibit or restrict the importation of certain animals, birds, and poultry into the United States to prevent the introduction of communicable diseases of livestock and poultry. Subpart D of part 93 (§§ 93.400 through 93.436, referred to below as the regulations) governs the importation of ruminants; within the regulations, §§ 93.424 through 93.429 specifically address the importation of ruminants from Mexico into the United States.

The regulations in paragraph (b)(1) of § 93.427 contain conditions for the importation of ruminants from regions of Mexico that we consider free from the Rhipicephalus (formerly Boophilus) annulatus ticks and Rhipicephalus microplus ticks, known as cattle fever ticks. Fever ticks are the North American vectors for bovine babesiosis, or cattle fever. Regions of Mexico that we consider free from fever ticks are listed at https://www.aphis.usda.gov/aphis/ourfocus/animalhealth/animal-and-animal-product-import-information/ct_animal_disease_status. Currently, the State of Sonora is the only region on this list.

The regulations in 9 CFR 92.2 contain requirements for requesting the recognition of the animal health status of a region or for the approval of the export of a particular type of animal or animal product to the United States from a foreign region. If, after review and evaluation of the information submitted in support of the request, the Animal and Plant Health Inspection Service (APHIS) believes the request can be safely granted, APHIS will make its evaluation available for public comment through a notice published in the Federal Register. Following the close of the comment period, APHIS will review all comments received and will make a final determination regarding the request that will be detailed in another notice published in the Federal Register.

In accordance with that process, Mexico asked APHIS to recognize the State of Chihuahua, except the municipalities of Guadalupe y Calvo and Morelos, as a region free from fever ticks. In response to this request, we prepared an evaluation of the fever tick status of this region. The evaluation concluded that the State of Chihuahua, excluding the municipalities of Guadalupe y Calvo and Morelos, is free from fever ticks, and that ruminants imported from the region pose a low risk of exposing ruminants within the United States to fever ticks.

On May 12, 2016, we published in the Federal Register (81 FR 29524-29525, Docket No. APHIS-2015-0042) a notice ¹ in which we announced the availability for review and comment of our evaluation of the fever tick status of the State of Chihuahua, except the municipalities of Guadalupe y Calvo and Morelos. We solicited comments on the notice for 60 days ending on July 11, 2016. We received no comments on our evaluation.

¹ To view the notice and the evaluation, go to http://www.regulations.gov/#!docketDetail;D=APHIS-2015-0042.

Therefore, based on the findings of our evaluation and the absence of comments that would lead us to reconsider those findings, we are announcing our determination to add the State of Chihuahua, excluding the municipalities of Guadalupe y Calvo and Morelos, to the list of regions of Mexico declared free from fever ticks. This list is available on the APHIS website at https://www.aphis.usda.gov/aphis/ourfocus/animalhealth/animal-and-animal-product-import-information/ct_animal_disease_status.

Authority: 7 U.S.C. 1622 and 8301-8317; 21 U.S.C. 136 and 136a; 31 U.S.C. 9701; 7 CFR 2.22, 2.80, and 371.4.

Done in Washington, DC, this 22nd day of March 2018.
Kevin Shea,
Administrator, Animal and Plant Health Inspection Service.

[FR Doc. 2018-06131 Filed 3-27-18; 8:45 am]

BILLING CODE 3410-34-P